DEPARTMENT OF JUSTICE

Antitrust Division

Notice Pursuant to the National Cooperative Research and Production Act of 1993—Cooperative Research Group on Advanced Combustion Catalyst and Aftertreatment Technologies

Notice is hereby given that, on March 20, 2015, pursuant to section 6(a) of the National Cooperative Research and Production Act of 1993, 15 U.S.C. 4301 et seq. (“the Act”), Southwest Research Institute—Cooperative Research Group on Advanced Combustion Catalyst and Aftertreatment Technologies (“AC²AT”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Cummins, Inc., Columbus, IN; Denso Corporation, Aichi-ken, JAPAN; John Deere, Waterloo, IA; Komatsu Ltd., Tochigi-ken, JAPAN; and Tenneco Automotive Operating Co., Inc., Grass Lake, MI. The general area of AC²AT's planned activity is to develop the most cost effective solutions for future engine systems by identifying and addressing the opportunities and challenges for integration of catalysts and aftertreatment systems to engines with advanced combustion technologies. The focus of the program will be to develop the tools and technologies necessary for the synergistic application of catalysts to advance engine technologies. The proposed program incorporates projects focused in four distinct areas: (1) Detailed characterization of emissions for advanced SI and CI engines; (2) alternative catalysts for use outside of the exhaust system; (3) development of simulation tools for streamlined aftertreatment analysis; and (4) evaluation of alternative emission control technologies.

Patricia A. Brink,
Director of Civil Enforcement, Antitrust Division.

[FR Doc. 2015-10030 Filed 4-29-15; 8:45 am]

BILLING CODE P